DEPARTMENT OF LABOR

Office of the Secretary

Submission for OMB Review: Comment Request

April 12, 2007.

The Department of Labor (DOL) has submitted the following public information collection requests (ICR) to the Office of Management and Budget (OMB) for review and approval in accordance with the Paperwork Reduction Act of 1995 (Pub. L. 104-13, 44 U.S.C. chapter 35). A copy of each ICR, with applicable supporting documentation, may be obtained from RegInfo.gov at http://www.reginfo.gov/public/do/PRAMain or by contacting Darrin King on 202-693-4129 (this is not a toll-free number)/e-mail: king.darrin@dol.gov.

Comments should be sent to Office of Information and Regulatory Affairs, Attn: OMB Desk Officer for the Mine Safety and Health Administration (MSHA), Office of Management and Budget, Room 10235, Washington, DC 20503, Telephone: 202-395-7316/Fax: 202-395-6974 (these are not a toll-free numbers), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Mine Safety and Health Administration.

Type of Review: Extension without change of currently approved collection.

Title: Certificate of Electrical Training.

OMB Number: 1219-0001.

Form Number: MSHA Form 5000-1.

Type of Response: Reporting.

Affected Public: Private Sector: Business or other for-profit (mining industry).

Number of Respondents: 4,845.

Estimated Number of Annual Responses: 2,294.

Average Response Time: 6 minutes.

Estimated Annual Burden Hours: 138.

Total Annualized capital/startup costs: $0.

Total Annual Costs (operating/maintaining systems or purchasing services): $9,257.

Description: MSHA Form 5000-1, Certificate of Electrical Training, is required to be used by instructors for reporting to MSHA the qualification of those persons who have satisfactorily completed a coal mine electrical training program course.

Darrin A. King,
Acting Departmental Clearance Officer.

[FR Doc. E7-7329 Filed 4-17-07; 8:45 am]

BILLING CODE 4510-43-P